NATIONAL SCIENCE FOUNDATION

Sunshine Act; National Science Board and Its Subdivisions; Notice of Meeting

Date and Time: March 29-30, 2006.

March 29, 2006 8 a.m.-5:30 p.m. Sessions:

8 a.m.-9:30 a.m.—Open

9:30 a.m.-10 a.m.—Open

10 a.m.-11 a.m.—Open

11 a.m.-12 noon—Executive Closed

1 p.m.-1:30 p.m.—Open

1:30 p.m.-2:30 p.m.—Open

2:30 p.m.-4:30 p.m.—Open

4:30 p.m.-5:30 p.m.—Open

March 30, 2006 7:30 a.m.-3:30 p.m. Sessions:

7:30 a.m.-9:30 a.m.—Open

9:30 a.m.-10 a.m.—Closed

10 a.m.-11 a.m.—Open

11 a.m.-11:30 a.m.—Closed

11:30 a.m.-11:45 a.m.—Executive Closed

1 p.m.-1:15 p.m.—Closed

1:15 p.m.-3:30 p.m.—Open

Place: National Science Foundation, 4201 Wilson Blvd, Room 1235, Arlington, VA 22230.

Public Meeting Attendance: All visitors must report to the NSF's visitor's desk at the 9th and N. Stuart Streets entrance to receive a visitor's badge.

Contact Information: Please refer to the National Science Board Web site (http://www.nsf.gov/nsb) for updated schedule. NSB Office: Dr. Robert Webber, (703) 292-7000.

Status: Part of this meeting will be closed to the public.

Part of this meeting will be open to the public.

Matters To Be Considered

Wednesday, March 30, 2006

Open

Committee on Programs and Plans Subcommittee on Polar Issues (8 a.m.-9:30 a.m.) Room 1235.

• Approval of September 2005 Minutes

• Progress in planning for International Polar Year

• Antarctic Treaty Actions requiring new national legislation

• Bering Sea Ecosystem research project

• Antarctic Resupply

Committee on Programs and Plans Task Force on Transformative Research (9:30 a.m.-10 a.m.) Room 1235.

• Approval of November-December 2005 Minutes

• Update on TR Workshop III, National Science Foundation, May 16, 2006

• Outcomes of previous TR workshops

Committee on Programs and Plans Task Force on International Science (10 a.m.-11 a.m.) Room 1235.

• Approval of November-December 2005 Minutes

• Update on Various Meetings with Agencies and Institutions in Washington, DC

• Discussion of Future Task Force Activities

• Update from NSF on the Status of Recommendations made in the 2000 NSB Interim Report on International Science

Committee on Programs and Plans Task Force on Hurricane Science and Engineering (1 p.m.-1:30 p.m.) Room 1235.

• Discussion of January 24 and February 7, 2006 Workshops

• Discussion of April 18, 2006 Workshop

Committee on Education and Human Resources Subcommittee on Science and Engineering Indicators (1:30 p.m.—2:30 p.m.) Room 1235.

• Approval of November 2005 Minutes

• Chairman's Remarks

• Discussion of Science and Engineering Indicators 2006 Clearance and Rollout

• Evolution of Indicators

○ Purpose and current audience

○ Outreach

○ Presentation—paper and electronic

○ New data/indicators

○ Interim release of data

Committee on Education and Human Resources (2:30 p.m.-4:30 p.m.) Room 1235.

• Approval of February 2006 Minutes

• Background: NSF/EHR Evaluation Briefing Book

• Follow-up to February Discussion of Future Activities

• NSB/EHR Discussion of Potential STEM Education Commission

• Subcommittee on Science and Engineering Indicators

• Follow-up Discussion: Workshop on “Engineering Workforce Issues and Engineering Education: What are the Linkages?'

• NSB items

Committee on Strategy and Budget (4:30 p.m.-5:30 p.m.) Room 1235.

• Approval of November 2005 Minutes

• Approval of November 2005 CSB/CPP Joint Session Minutes

• Status of the NSF Strategic Plan: FY 2003-2008, and schedule for NSB review and approval

• Status of FY 2007 Budget Request to Congress

• Process for developing FY 2008 Budget Request to Congress

• NSF Average Award Size, Duration, and Proposal Success Rate

Executive Closed

Ad hoc Committee on 2006 Vannevar Bush Award (11 a.m.-12 noon) Room 1235.

• Review and discussion of candidates

• Balloting

Thursday, March 30

Open

Committee on Programs and Plans (7:30 a.m.-9:30 a.m.) Room 1235.

• Approval of February 10, 2006 CPP Minutes

• Approval of November 30, 2005 CSB/CPP Joint Session Minutes

• Status Reports:

○ Task Force on Transformative Research

○ Task Force on International Science

○ Task Force on Hurricane Science and Engineering

○ Subcommittee on Polar Issues

• NSB Information Item: National Superconducting Cyclotron Laboratory—Plans for Review of the Proposed 5-Year Renewal of Support

○ Updates:

○ Atacama Large Millimeter Array (ALMA)

○ National Ecological Observatory Network (NEON)

○ NSF's Cyberinfrastructure Vision

Committee on Audit and Oversight (10 a.m.-11 a.m.) Room 1235.

• Approval of December 2005 Minutes

• Introduction of new NSF financial statement auditors

• Presentation of FY 2005 Merit Review Report

• Chief Financial Officer's Update

Closed

Committee on Programs and Plans (9:30-10).

• Awards and Agreements

Committee on Audit and Oversight (11-11:30)

• Pending Investigations (OIG Staff)

Plenary Sessions of the Board (11:30 a.m.-11:45 a.m. and 1 p.m.-3:30 p.m.)

Executive Closed Session (11:30 a.m.-11:45 a.m.) Room 1235.

• Approval of February 2006 Executive Closed Minutes

• Approval of Honorary Award Recipients

• Nominating Committee Election

Closed Session (1 p.m.-1:15 p.m.) Room 1235.

• Approval of February 2006 Closed Session Minutes

• Awards and Agreements

• Closed Committee Reports

Open Session (1:15 p.m.-3:30 p.m.) Room 1235.

• Approval of February 2006 Open Session Minutes

• Resolution To Close portions of May 2006 meeting

• Chairman's Report

○ NSB Congressional Testimony

○ Update on STEM Education Hearings

• Director's Report

○ NSF Congressional Update

• Open Committee Reports

• Presentation: Update on Grants.gov

Michael P. Crosby,
Executive Officer and NSB Office Director.

[FR Doc. 06-2794 Filed 3-17-06; 4:26 pm]

BILLING CODE 7555-01-P